DEPARTMENT OF THE INTERIOR

National Park Service

[NPS-WASO-NAGPRA-NPS0028906; PPWOCRADN0-PCU00RP14.R50000]

Notice of Inventory Completion: Arkansas Archeological Survey, Fayetteville, AR

AGENCY: National Park Service, Interior.

ACTION: Notice.

SUMMARY: The Arkansas Archeological Survey (ARAS) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the ARAS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the ARAS at the address in this notice by November 12, 2019.

ADDRESSES: Dr. George Sabo, Arkansas Archeological Survey, 2475 N Hatch Avenue, Fayetteville, AR 72704, telephone (479) 575-3556, email gsabo@uark.edu.

SUPPLEMENTARY INFORMATION: Notice is here given in accordance with the Native American Graves Protection and Repatriation Act (NAGPRA), 25 U.S.C. 3003, of the completion of an inventory of human remains and associated funerary objects under the control of the Arkansas Archeological Survey, Fayetteville, AR. Private individuals removed the human remains and associated funerary objects from Clark and Hot Spring Counties, AR, in the 1930s and 1940s. These collections were acquired by the Joint Educational Consortium of Henderson State University and Ouachita Baptist University in 1977, and were transferred to the Arkansas Archeological Survey in 2017.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by ARAS professional staff in consultation with representatives of the Caddo Nation of Oklahoma. These human remains were inventoried and documented by physical anthropologists at the University of Arkansas.

History and Description of the Remains

In 1937, human remains representing, at minimum, one individual were recovered from the Freeman site (3CL40) in Clark County, AR. The individual is a sub-adult 2-4 years old. No known individuals were identified. The 35 associated funerary objects are 32 shell beads, one Hodges Engraved bottle, one Hodges Engraved carinated bowl, and one Karnack-Incised jar. Diagnostic artifacts found at the Freeman site (3CL40) indicate that these human remains were probably buried during the Deceiper Phase (A.D. 1650-1700).

In 1941, human remains representing, at minimum, one individual were recovered from the Gross Mound site (3CL62) in Clark County, AR. The individual is an adult male. No known individuals were identified. No associated funerary objects are present. Diagnostic artifacts found at the Gross Mound site (3CL62) indicate that these human remains were probably buried during the Deceiper Phase (A.D. 1650-1700).

Between 1938-1943, human remains representing, at minimum, two individuals were recovered from the Stanford site (3CL81) in Clark County, AR. The individuals are one adult male and one adult female. No known individuals were identified. No associated funerary objects are present. Diagnostic artifacts found at the Stanford site (3CL81) indicate that these human remains were probably buried during the Mid-Ouachita, Social Hill, or Deceiper Phases (A.D. 1400-1700).

Between 1943-1944, human remains representing, at minimum, six individuals were recovered from the Richardson site (3CL83) in Clark County, AR. The individuals are one adult male and five adults of indeterminate sex. No known individuals were identified. The 11 associated funerary objects are one effigy seed jar, one incised jar, two Foster Trailed-Incised jars, two Sandford Punctated bowls, one punctated beaker, one Hodges Engraved bottle, one engraved carinated bowl, and two earspools. Diagnostic artifacts found at the Richardson site (3CL83) indicate that these human remains were probably buried during the Social Hill and Deceiper Phases (A.D. 1500-1700).

In 1944, human remains representing, at minimum, one individual were recovered from the Coleman Terril site (3CL84) in Clark County, AR. The individual is an adult of indeterminate sex. No known individuals were identified. The two associated funerary objects are an East Incised bowl and a Smithport Plain bottle. Diagnostic artifacts found at the Coleman Terril site (3CL84) indicate that these human remains were probably buried during the East Phase (A.D. 1100-1400).

Between 1940-1941, human remains representing, at minimum, 11 individuals were recovered from the Lower Meador site (3HS19) in Hot Spring County, AR. The individuals are four adults of indeterminate sex, five adult males, one adult female, and one sub-adult 4-8 years old. No known individuals were identified. The 59 associated funerary objects are 22 shell beads, two Hodges Engraved bottles, one Bailey Engraved bottle, one Foster/Keno Trailed-Incised bowl, three plain bowls, one plain jar, three incised jars, four projectile points (Gary, Bassett, Maud, and Scallorn or Womble), five bone tools, two Foster Trailed-Incised jars, three Keno Trailed bottles, one Foster/Caney jar, one unmodified shell, two Military Road Incised jars, one ceramic pipe, one Sandford Punctated bowl, one incised and brushed jar, three plain bottles, one Hodges Engraved bowl, and one celt. Diagnostic artifacts found at the Lower Meador site (3HS19) in Hot Spring County indicate that these human remains were probably buried during the Mid-Ouachita, Social Hill, and Deceiper Phases (A.D. 1500-1700).

Between 1940-1943, human remains representing, at minimum, one individual were recovered from the Meadow Grove site (3HS33) in Hot Spring County, AR. The individual is an adult of indeterminate sex. No known individuals were identified. No associated funerary objects are present. Diagnostic artifacts found at the Meadow Grove site (3HS33) indicate that these human remains were probably buried during the Mid-Ouachita, Social Hill, or Deceiper Phases (A.D. 1500-1700).

In the 1930s to 1940s, human remains representing, at minimum, one individual were recovered from the Clyde Hodges site (3HS99) in Hot Spring County, AR. The individual is an adult of indeterminate sex. No known individuals were identified. The two associated funerary objects are two quartz crystals. Diagnostic artifacts found at the Clyde Hodges site (3HS99) indicate that these human remains were probably buried during the Caddo Period (A.D. 900-1750).

In the 1930s to 1940s, human remains representing, at minimum, one individual were recovered from the Cook's East site (3HS106) in Hot Spring County, AR. The individual is an adult of indeterminate sex. No known individuals were identified. No associated funerary objects are present. Diagnostic artifacts found at the Cook's East site (3HS106) indicate that these human remains were probably buried during the Caddo Period (A.D. 900-1700 A.D.).

In the 1930s to 1940s, human remains representing, at minimum, six individuals were recovered from the Barkman Salt Works site (3HS110) in Hot Spring County, AR. The individuals are one probable adult male, two probable adult females, and three adults of unknown sex. No known individuals were identified. No associated funerary objects are present. Diagnostic artifacts found at the Barkman Salt Works site (3HS110) indicate that these human remains were probably buried during the Caddo Period (A.D. 900-1700).

In 1941, human remains representing, at minimum, one individual were recovered from an unknown site in Hot Spring County, AR. The individual is an adult of indeterminate sex. No known individuals were identified. No associated funerary objects are present. Diagnostic artifacts found in Hot Spring County indicate that these human remains were probably buried during the Caddo Period (A.D. 900-1700).

In the 1930s to 1940s, human remains representing, at minimum, two individuals were recovered from an unknown location in southwest AR. The individuals are two adults of indeterminate sex. No known individuals were identified. The one associated funerary object is a Military Road Incised jar. Diagnostic artifacts found in southwest Arkansas indicate that these human remains were probably buried during the Mid-Ouachita Phase (A.D. 1400-1500).

In the 1930s to 1940s, human remains representing, at minimum, two individuals were recovered from an unknown location in southwest AR. The individuals are one sub-adult and one adult, both of indeterminate sex. No known individuals were identified. The one associated funerary object is a Hardman Engraved bowl. Diagnostic artifacts found in southwest Arkansas indicate that these human remains were probably buried during the Social Hill Phase (A.D. 1500-1600).

In the 1930s to 1940s, human remains representing, at minimum, one individual were recovered from an unknown location in southwest AR. The individual is an adult of indeterminate sex. No known individuals were identified. The one associated funerary object is a grog tempered bowl. Diagnostic artifacts found in southwest Arkansas indicate that these human remains were probably buried during the East Phase (A.D. 1100-1400).

In the 1930s to 1940s, human remains representing, at minimum, 14 individuals were recovered from unknown locations in southwest AR. The individuals are one sub-adult of indeterminate sex, two adult males, three adult females, and eight adults of indeterminate sex. No associated funerary objects are present. Diagnostic artifacts found in southwest Arkansas indicate that these human remains were probably buried sometime during the Prehistoric Period (11,650 B.C.-A.D. 1541).

In the 1930s to 1940s, human remains representing, at minimum, one individual were recovered from the White Farm in southwest AR. The individual is an adult male of indeterminate sex. No associated funerary objects are present. Diagnostic artifacts found in southwest Arkansas indicate that these human remains were probably buried sometime during the Prehistoric Period (11,650 B.C.-A.D. 1541).

This notice includes a variety of terms commonly used in discussions of Arkansas archeology and the historical trajectories that gave rise to specific Native American communities identified in the historical record. Based on the archeological context for these sites and current expert opinion, the earlier groups who occupied the sites listed in this notice are culturally affiliated with the Caddo Nation of Oklahoma.

Determinations Made by the Arkansas Archeological Survey

Officials of the Arkansas Archeological Survey have determined that:

• Pursuant to 25 U.S.C. 3001(9), the human remains described in this notice represent the physical remains of 52 individuals of Native American ancestry.

• Pursuant to 25 U.S.C. 3001(3)(A), the 112 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian Tribe or Native Hawaiian organization not identified in this notice that wish to request transfer of control of these human remains and associated funerary objects should submit a written request with information in support of the request to Dr. George Sabo, Arkansas Archeological Survey, 2475 N Hatch Avenue, Fayetteville, AR 72704, telephone (479) 575-3556, email gsabo@uark.edu, by November 12, 2019. After that date, if no additional requestors have come forward, transfer of control of the human remains and associated funerary objects to the Caddo Nation of Oklahoma may proceed.

The Arkansas Archeological Survey is responsible for notifying the Caddo Nation of Oklahoma that this notice has been published.

Dated: September 13, 2019.
Melanie O'Brien,
Manager, National NAGPRA Program.

[FR Doc. 2019-22169 Filed 10-9-19; 8:45 am]

BILLING CODE 4312-52-P